DEPARTMENT OF THE INTERIOR

National Park Service

[NPS-WASO-NAGPRA-22834; PPWOCRADN0-PCU00RP14.R50000]

Notice of Inventory Completion: Department of Anthropology, The University of Tulsa, Tulsa, OK

AGENCY: National Park Service, Interior.

ACTION: Notice.

SUMMARY: The Department of Anthropology, The University of Tulsa has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Department of Anthropology, The University of Tulsa. If no additional requestors come forward, transfer of control of the human remains to the Indian tribes or Native Hawaiian organizations stated in this notice may proceed.

DATES: Representatives of any Indian tribe or Native Hawaiian organization not identified in this notice that wish to request transfer of control of these human remains should submit a written request with information in support of the request to the Department of Anthropology, The University of Tulsa at the address in this notice by April 12, 2017.

ADDRESSES: Dr. Thomas Foster, Department of Anthropology, The University of Tulsa, Harwell Hall, Tulsa, OK 74104, telephone (918) 631-3082, email thomas-foster@utulsa.edu.

SUPPLEMENTARY INFORMATION: Notice is here given in accordance with the Native American Graves Protection and Repatriation Act (NAGPRA), 25 U.S.C. 3003, of the completion of an inventory of human remains under the control of the Department of Anthropology, The University of Tulsa, Tulsa, OK. The human remains were removed from unknown locations in the state of Oklahoma.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of Anthropology, The University of Tulsa professional staff in consultation with representatives of The Osage Nation (previously listed as the Osage Tribe).

History and Description of the Remains

During an unknown period of time, human remains representing, at minimum, 30 individuals were removed from multiple locations in the state of Oklahoma. In 2015, these human remains were identified in the collection of the Department of Anthropology, The University of Tulsa. The collection of human remains has no credible documentation. They were apparently accumulated over a number of years with varying documentation and association. No known individuals were identified. No associated funerary objects are present.

Determinations Made by the Department of Anthropology, The University of Tulsa

Officials of the Department of Anthropology, The University of Tulsa have determined that:

• Pursuant to 25 U.S.C. 3001(9), the human remains described in this notice are Native American based on physical indicators of age and condition, associated documentation, cranial morphology, and associated human remains.

• Pursuant to 25 U.S.C. 3001(9), the human remains described in this notice represent the physical remains of 30 individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of The Osage Nation (previously listed as the Osage Tribe).

• Treaties, Acts of Congress, or Executive Orders, indicate that the land from which the Native American human remains were removed is the aboriginal land of The Osage Nation (previously listed as the Osage Tribe).

• Pursuant to 43 CFR 10.11(c)(1), the disposition of the human remains may be to The Osage Nation (previously listed as the Osage Tribe).

Additional Requestors and Disposition

Representatives of any Indian tribe or Native Hawaiian organization not identified in this notice that wish to request transfer of control of these human remains should submit a written request with information in support of the request to Dr. Thomas Foster, Department of Anthropology, The University of Tulsa, Harwell Hall, Tulsa, OK 74104, telephone (918) 631-3082, email thomas-foster@utulsa.edu, by April 12, 2017. After that date, if no additional requestors have come forward, transfer of control of the human remains to The Osage Nation (previously listed as the Osage Tribe) may proceed.

The Department of Anthropology, The University of Tulsa is responsible for notifying The Osage Nation (previously listed as the Osage Tribe) that this notice has been published.

Dated: February 1, 2017.
Melanie O'Brien,
Manager, National NAGPRA Program.

[FR Doc. 2017-04851 Filed 3-10-17; 8:45 am]

BILLING CODE 4312-52-P